DEPARTMENT OF ENERGY

Federal Energy Regulatory Commission

[Docket Nos. CP17-56-000 and CP17-57-000]

Texas Eastern Transmission, LP; Brazoria Interconnector Gas Pipeline LLC; Notice of Application

Take notice that on February 3, 2017, Texas Eastern Transmission, LP (Texas Eastern) in Docket No. CP17-56-000 and Brazoria Interconnector Gas Pipeline LLC (Brazoria Pipeline) in Docket No. CP17-57-000, 5400 Westheimer Court, Houston, Texas 77056, jointly filed an application pursuant to section 7(c) of the Natural Gas Act and Part 157 of the Commission's regulations for the proposed Stratton Ridge Expansion Project (Project) located in Brazoria County, Texas. The Project will create 322,000 Dth/d of firm transportation capacity to deliver natural gas from multiple receipt points on Texas Eastern's interstate pipeline system to a delivery point on Brazoria Pipeline's intrastate pipeline system at Stratton Ridge in Brazoria County, Texas.

Specifically, the applicants request: (i) A certificate of public convenience and necessity for Texas Eastern to construct, install, own, operate and maintain the Project facilities, as proposed in the application, and acquire, by lease, capacity on the Brazoria Pipeline's non-jurisdictional facilities; (ii) authorization for Texas Eastern to charge the initial incremental recourse rates, an incremental fuel percentage and incremental electric power costs for firm service on the Project; (iii) authorization for Texas Eastern to establish separate initial incremental recourse rates and an applicable fuel percentage for service under Rate Schedules FT-1 and IT-1 applicable to shippers desiring access to the capacity leased on Brazoria Pipeline's facilities; and (iv) a limited jurisdiction certificate of public convenience and necessity authorizing Brazoria Pipeline to lease 322,000 Dth/d of pipeline capacity on its non-jurisdictional facilities to Texas Eastern. The Project is part of Texas Eastern's plan to develop firm bi-directional transportation service to connect diverse supply basins with emerging Gulf Coast markets, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Berk Donaldson, General Manager, Rates and Certificates, Texas Eastern Transmission, LP and Brazoria Interconnector Gas Pipeline LLC, P.O. Box 1642, Houston, Texas 77251, or phone by: (713) 627-4488, or fax: (713) 627-5947 or by email: bdonaldson@spectraenergy.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 9, 2017.

Dated: February 16, 2017.
Nathaniel J. Davis, Sr.,
Deputy Secretary.

[FR Doc. 2017-03566 Filed 2-23-17; 8:45 am]

BILLING CODE 6717-01-P